DEPARTMENT OF HEALTH AND HUMAN SERVICES

National Institutes of Health

National Cancer Institute; Amended Notice of Meeting

Notice is hereby given of a change in the meeting of the Subcommittee A—Cancer Centers, April 5, 2006, 1 p.m., to April 5, 2006, 5 p.m., Wyndham City Center Hotel, 1143 New Hampshire Ave., NW., Washington, DC, 20037 which was published in the Federal Register on January 24, 2006, 71 FR 3860-3861.

The meeting is amended to change the meeting location from Wyndham City Center Hotel, 1143 New Hampshire Ave, NW., Washington, DC 20037 to Wyndham Hotel, 1400 M St., NW., Washington, DC 20005. The meeting is closed to the public.

Dated: February 22, 2006.
Anna Snouffer,
Acting Director, Office of Federal Advisory Committee Policy.

[FR Doc. 06-1894 Filed 2-28-06; 8:45 am]

BILLING CODE 4140-01-M